DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given that the Office of Hazardous Materials Safety has received the application described herein.

DATES: Comments must be received on or before August 10, 2017.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on June 30, 2017.
Donald Burger,
Chief, Office of the Special Permits and Approvals.

Application No. | Docket No. | Applicant | Regulation(s) affected | Nature of the special permits thereof
Special Permits Data
11911-M |  | TRANSFER FLOW, INC | 177.834(h), 178.700(c)(1) | To authorize an additional fuel type to be added to the permit.
20438-N |  | TOYOTA MOTORSPORT GMBH | 172.101(j), 173.185(a) | To authorize the transportation in commerce of prototype lithium ion batteries in excess of 35 kg by cargo-only aircraft.
20458-N |  | KAVOK EIR, TOV | 172.204(c)(3), 175.30(a)(1), 173.27(b)(2), 173.27(b)(3) | To authorize the transportation in commerce of certain explosives which are forbidden for transport by cargo only aircraft.
20460-N |  | KALITTA AIR, L.L.C | 172.101(j)(1), 175.30(a)(1), 173.27(b)(2), 173.27(b)(3) | To authorize the transportation of explosives forbidden aboard aircraft to be transported aboard cargo-only aircraft.
20465-N |  | TOYOTA MOTOR SALES USA INC | 172.446(b) | To authorize the use of Class 9 labels whose vertical stripes are not equal in size.
20467-N |  | CHEMTRONICS INC | 171.8, 171.23(b), 173.304a(a) | To authorize the transportation in commerce of certain DOT Specification 2Q containers containing hazardous materials identified in paragraph 6 as ORM-D materials.
20468-N |  | KALITTA AIR, L.L.C | 172.204(c)(3), 175.30(a)(1), 173.27(b)(2), 173.27(b)(3) | To authorize the transportation in commerce of anhydrous ammonia by cargo aircraft, which is forbidden in the regulations.
20472-N |  | UKRAINE AIR ALLIANCE | 175.30(a)(1), 173.27(b)(2), 173.27(b)(3), | To authorize the transportation in commerce of explosives by cargo aircraft which is forbidden by the regulations.

[FR Doc. 2017-14466 Filed 7-10-17; 8:45 am]

BILLING CODE 4909-60-P